DEPARTMENT OF ENERGY

Federal Energy Regulatory Commission

[Docket Nos. ER02-1054-000, ER02-1055-000, and ER02-1056-000]

NRG Northern Ohio Generating LLC; NRG Ashtabula Generating LLC; and NRG Lakeshore Generating LLC; Notice of Issuance of Order

June 7, 2002.

NRG Northern Ohio Generating LLC, NRG Ashtabula Generating LLC, and NRG Lakeshore Generating LLC (collectively, “the NRG Companies”) each filed an application for market-based rate authority, with accompanying tariffs and codes of conduct. The proposed market-based tariffs provide for the wholesale sale of electric energy, capacity, and ancillary services, and the sale, assignment or transfer of transmission capacity. The NRG Companies also requested waiver of various Commission regulations. In particular, the NRG Companies requested that the Commission grant blanket approval under 18 CFR part 34 of all future issuances of securities and assumptions of liability by the NRG Companies .

On March 29, 2002, pursuant to delegated authority, the Director, Office of Markets, Tariffs and Rates-Central, granted requests for blanket approval under Part 34, subject to the following:

Any person desiring to be heard or to protest the blanket approval of issuances of securities or assumptions of liability by the NRG Companies should file a motion to intervene or protest with the Federal Energy Regulatory Commission, 888 First Street, NE, Washington, DC 20426, in accordance with Rules 211 and 214 of the Commission's Rules of Practice and Procedure (18 CFR 385.211 and 385.214).

Absent a request to be heard in opposition within this period, the NRG Companies are authorized to issue securities and assume obligations or liabilities as a guarantor, indorser, surety, or otherwise in respect of any security of another person; provided that such issuance or assumption is for some lawful object within the corporate purposes of the NRG Companies, compatible with the public interest, and is reasonably necessary or appropriate for such purposes.

The Commission reserves the right to require a further showing that neither public nor private interests will be adversely affected by continued approval of the NRG Companies' issuances of securities or assumptions of liability.

Notice is hereby given that the deadline for filing motions to intervene or protests, as set forth above, is June 17, 2002.

Copies of the full text of the Order are available from the Commission's Public Reference Branch, 888 First Street, NE, Washington, DC 20426. The Order may also be viewed on the Internet at http://www.ferc.fed.us/online/rims.htm (call 202-208-2222 for assistance). Comments, protests, and interventions may be filed electronically via the Internet in lieu of paper. See, 18 CFR 385.2001(a)(1)(iii) and the instructions on the Commission's Web site at http://www.ferc.fed.us/efi/doorbell.htm.

Linwood A. Watson, Jr.,
Deputy Secretary.

[FR Doc. 02-14916 Filed 6-12-02; 8:45 am]

BILLING CODE 6717-01-P